DEPARTMENT OF COMMERCE

International Trade Administration

[A-570-827]

Certain Cased Pencils From the People's Republic of China: Extension of Time Limit for the Final Results of Antidumping Duty Administrative Review

AGENCY: Import Administration, International Trade Administration, Department of Commerce.

EFFECTIVE DATE: April 21, 2010.

FOR FURTHER INFORMATION CONTACT: Alexander Montoro or Joseph Shuler, AD/CVD Operations, Office 1, Import Administration, International Trade Administration, U.S. Department of Commerce, 14th Street and Constitution Avenue, NW, Washington, DC 20230; telephone (202) 482-0238 and (202) 482-1293, respectively.

SUPPLEMENTARY INFORMATION:

Background

On December 22, 2009, the Department of Commerce (“Department”) published the preliminary results of the administrative review of the antidumping duty order on certain cased pencils from the People's Republic of China (“PRC”), covering the period December 1, 2007 through November 30, 2008. See Certain Cased Pencils from the People's Republic of China: Preliminary Results of Antidumping Duty Administrative Review, 74 FR 68047 (December 22, 2009). The final results of this administrative review were originally due no later than April 21, 2010. As explained in the memorandum from the Deputy Assistant Secretary for Import Administration, the Department has exercised its discretion to toll deadlines for the duration of the closure of the Federal Government from February 5, through February 12, 2010. Thus, all deadlines in this segment of the proceeding have been extended by seven days. The revised deadline for the final results of this review is currently April 28, 2010. See Memorandum to the Record from Ronald Lorentzen, DAS for Import Administration, regarding “Tolling of Administrative Deadlines As a Result of the Government Closure During the Recent Snowstorm,” dated February 12, 2010.

Extension of Time Limit for Final Results

Section 751(a)(3)(A) of the Tariff Act of 1930, as amended (the “Act”), requires that the Department issue the final results of an administrative review within 120 days after the date on which the preliminary results are published. If it is not practicable to complete the review within that time period, section 751(a)(3)(A) of the Act allows the Department to extend the deadline for the final results to a maximum of 180 days after the date on which the preliminary results are published.

The Department finds that it is not practicable to complete the final results of this review by April 28, 2010, because the Department needs additional time to consider complex issues the parties have raised related to surrogate valuation. Therefore, in accordance with section 751(a)(3)(A) of the Act, the Department is extending the time limit for completion of the final results by 30 days to May 28, 2010.

This notice is published in accordance with sections 751(a)(3)(A) and 777(i) of the Act.

Dated: April 15, 2010.
Barbara E. Tillman,
Acting Deputy Assistant Secretary for Antidumping and Countervailing Duty Operations.

[FR Doc. 2010-9176 Filed 4-20-10; 8:45 am]

BILLING CODE 3510-DS-S